DEPARTMENT OF THE INTERIOR

Bureau of Land Management

[LLCOS06000-L91310000-EI0000]

Notice of Intent To Prepare an Environmental Assessment for the Proposed Competitive Geothermal Lease Sale, Gunnison County, CO and Land Use Plan Amendment

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Gunnison Field Office, Gunnison, Colorado intends to prepare an Environmental Assessment (EA) to consider whether, and under what conditions, to issue geothermal leases under pending nominations, which may include an amendment to the Gunnison Resource Area Approved Resource Management Plan (RMP) of February 1993, as amended by the RMP Amendments for Geothermal Leasing in the Western United States (2008). While the area nominated for geothermal leasing is allocated as open to consideration for geothermal leasing under the amended Plan, and the proposed level of development contemplated in the amended Plan will not be exceeded by issuance of the proposed leases, the Reasonably Foreseeable Development scenario for the resource area has been refined and updated since that time, and additional stipulations to protect other resources and uses may be developed through this process and adopted into the Plan. The BLM proposes to amend the existing Gunnison Resource Area RMP using the NEPA analysis to support its decision. Review of the RMP is necessary due to recently updated information regarding the presence of Gunnison sage-grouse and Canada lynx habitat that was not analyzed in the existing RMP. The BLM, by this notice, is announcing the beginning of the scoping process to solicit public comments and identify issues.

DATES: This notice initiates the public scoping process for the EA and RMP amendment. Comments on issues may be submitted in writing until June 24, 2010. A joint public scoping meeting was held by the BLM and the U.S. Forest Service (FS) in Gunnison, Colorado on March 11, 2010. The date(s) and location(s) of any additional scoping meetings will be announced at least 15 days in advance through local media, newspapers and the following BLM Web site: http://www.blm.gov/co/st/en/fo/gfo.html. In order to be included in the EA, all comments must be received prior to the close of the scoping period or 30 days after the last public meeting, whichever is later. The BLM will provide additional opportunities for public participation upon publication of the EA.

ADDRESSES: You may submit comments on issues and planning criteria related to Competitive Geothermal Lease Nomination, Gunnison County by any of the following methods:

• Web site: http://www.blm.gov/co/st/en/fo/gfo.html.

• E-mail: Marnie_Medina@blm.gov.

• Fax: (970) 642-4425.

• Mail: BLM, Gunnison Field Office, 216 N. Colorado St., Gunnison, Colorado 81230.

Documents pertinent to this proposal may be examined at the Gunnison Field Office.

FOR FURTHER INFORMATION CONTACT: For further information and/or to have your name added to our mailing list, contact Marnie Medina, Realty Specialist, telephone (970) 642-4457; address 216 N. Colorado St., Gunnison, Colorado 81230; e-mail Marnie_Medina@blm.gov.

SUPPLEMENTARY INFORMATION: The BLM has received two block nominations of lands for competitive geothermal leasing. One block includes approximately 4,586 acres of public lands and 400 acres of split estate lands, i.e., private surface overlying the Federal mineral estate. The second block includes approximately 3,765 acres of FS lands. The proposed lease of that block will be included in the study area for BLM's EA, but also will be analyzed by the FS in a separate environmental analysis. The FS will use its own NEPA process to decide whether, and under what conditions, to consent to the issuance of geothermal leases on its lands. In addition, the Colorado State Land Board has received an application for a geothermal lease on State lands adjacent to some of the nominated FS lands. The nominated lands are located in southeastern Gunnison County, north of Highway 50, in the general vicinity of Tomichi Dome east of Gunnison, Colorado. While the BLM lands at issue are currently open to geothermal leasing, current RMP-level use restrictions and stipulations designed to protect other resources, in particular Gunnison sage-grouse (a BLM special status species) and Canada lynx (recently listed under the Endangered Species Act), may not be adequate or have not been formally adopted into the RMP. The nominated BLM lands are within occupied sage-grouse habitat and include about 200 acres of potential lynx habitat. The decision to be made is whether to offer the lands in the study area for geothermal lease, and if so, to identify the constraints, major and minor, under which geothermal leasing and development could occur. The planning level decisions could include, among other things, development of adequate protective measures for cultural resources, sage-grouse, and lynx, and other resources, which may involve some minor resource-specific land use plan amendments. Individual lease issuance decisions for the nominated lands will be made based on this NEPA process. A geothermal lease provides a non-exclusive right to future exploration and an exclusive right to produce and use the geothermal resources within the lease area, subject to existing laws, regulations, formal orders, terms, conditions, and stipulations in or attached to the lease form, or included as conditions of approval to permits.

The purpose of the public scoping process is to: (1) Determine relevant issues that will influence the scope of the environmental analysis, including alternatives, and guide the process for amending the land use plan to adopt new stipulations and other conservation measures, and (2) decide whether, and under what conditions, to issue geothermal leases in the study area. At present, the BLM has identified the following preliminary issues:

• Conservation of Gunnison sage-grouse population and habitat;

• Conservation of Canada lynx seasonal habitat;

• Impacts to cultural resources;

• Impacts to known geothermal resources and features in and near the lease nomination area;

• Demand for renewable energy and local economic impacts;

• Access to and across private lands;

• Impacts to critical big game winter range and other wildlife habitat;

• Visual impacts from potential development; and

• Cumulative impacts associated with geothermal leasing including the potential for exploration and development operations.

By this notice, the BLM is complying with requirements in 43 CFR 1610.2(c) to notify the public of potential amendments to land use plans, predicated on the findings of the EA. If a land use plan amendment is necessary, the BLM will integrate the land use planning process with the NEPA process for this project.

The BLM may use a combination of scoping periods, public meetings, and the NEPA process to supplement the public involvement process required by Section 106 of the National Historic Preservation Act (NHPA) (16 U.S.C. 470f) as provided for in 36 CFR 800.2(d)(3). Native American Tribal consultations will be conducted and Tribal concerns, including impacts on Indian trust assets will be given due consideration. Federal, state, and local agencies, along with other stakeholders that may be interested or affected by the BLM's decision on this project are invited to participate in the scoping process and, if eligible, may request or be requested by the BLM to participate as a Cooperating Agency. Agencies or organizations with technical expertise or jurisdictional authority will be invited to participate as Cooperating Agencies in the NEPA analysis and environmental review. Likely cooperating agencies identified thus far include the County of Gunnison, the City of Gunnison, the State of Colorado Governor's Energy Office and Department of Natural Resources (Division of Wildlife, Division of Water Resources, State Land Board, and Colorado Geological Survey), the FS, the Western Area Power Administration, the Environmental Protection Agency, the U.S. Fish and Wildlife Service, the Southern Ute Tribe, Ute Mountain Ute Tribe, and the Northern Ute Tribe.

An interdisciplinary approach will be used to develop any plan amendment in order to consider the variety of resource issues and concerns identified during public scoping. Notification of the planning process will be made to the Governor of Colorado, County Commissioners, local tribes and potentially affected members of the public. The public is encouraged to help identify questions and concerns during the scoping phase.

Preliminary planning criteria are:

1. The BLM will continue to manage the public land within the planning area in accordance with FLPMA, 43 U.S.C. 1701 (et seq.), other applicable laws and regulations, and all existing public land laws.

2. The BLM will use a collaborative and multi-jurisdictional approach, where possible, to jointly determine the desired future condition of public lands.

3. The socio-economic impacts of the alternatives will be addressed.

4. The amendment process will follow the FLPMA planning process and include an EA that will comply with NEPA standards and an Environmental Impact Statement if a Finding of No Significant Impact cannot be reached.

5. Decisions in the Amendment will strive to be compatible with existing plans and policies of adjacent local, State, Federal and Tribal agencies to the extent that those plans and policies are consistent with Federal law governing the administration of public land.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7, 43 CFR 1610.2.

Helen M. Hankins,
State Director.

[FR Doc. 2010-12461 Filed 5-24-10; 8:45 am]

BILLING CODE 4310-JB-P